DEPARTMENT OF HOUSING AND URBAN DEVELOPMENT

[Docket No. FR 4652-N-09]

Notice of Proposed Information Collection for Public Comment for the Revitalization of Severely Distressed Public Housing (HOPE VI): HOPE VI Revitalization Application Requirements; HOPE VI Demolition Application Requirements; HOPE VI Revitalization Quarterly Reporting; Certification of Mixed-Finance Procurement

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: June 5, 2001.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who ear to respond, including through the use of appropriate automated collection techniques or other forms of information technology; e.g., permitting electronic submission of responses.

This Notice also lists the following information:

Title of Proposal: Revitalization of Severely Distressed Public Housing (HOPE VI): HOPE VI Revitalization Application Requirements; HOPE VI Demolition Application Requirements; HOPE VI Revitalization Quarterly Reporting; Certification of Mixed-Finance Procurement.

OMB Control Number: 2577-0208.

Description of the Need for the Information and Proposed Use: These information collections are required in connection with the publication in the Federal Register of a Notice of Funding Availability (NOFA) which announces the availability of $565,00,000, $490,000,000 of which is available for the revitalization of severely distressed public housing under the HOPE VI program. The remaining $75,000,000 is available for HOPE VI Demolition grants.

Eligible public housing agencies (PHAs) interested in obtaining HOPE VI Revitalizing funding are required to submit applications to HUD, as explained in the NOFA. The information collection conducted in the applications enables HUD to conduct a comprehensive, merit-based selection process in order to identify and select the applications to receive funding. With the use of HUD-prescribed forms, the information collection provides HUD with sufficient information to approve or disapprove applications.

Eligible PHAs interested in obtaining HOPE VI Demolition funding are required to submit applications to HUD, as explained in the NOFA. The information collection conducted in the applications enables HUD to conduct a comprehensive selection process in order to identify and select the applications to receive funding. The information collection provides HUD with sufficient information to approve or disapprove applications.

Applicants that are awarded HOPE VI Revitalization funds (“Grantees”) are required to report on a quarterly basis on the sources and uses of all amounts expended for revitalization activities. Grantees use a fully-automated, Internet-based process for the submission of quarterly reporting information. HUD reviews and evaluates the collected information and uses it as a primary tool with which to monitor the status of HOPE VI Revitalization projects and the HOPE VI Revitalization program.

HUD requires Grantees (PHAs) to submit to HUD the Certification of Mixed-Finance Procurement form if they choose to certify that they have complied with 24 CFR Part 85.36, as permitted by 85.36(g)(3)(ii), in the procurement of program managers and developers. HUD will review and approve/disapprove the Certification form. HUD's approval of the Certification form allows the Grantee to contract with the procured firm and eliminates the need for the Grantee to submit the Request for Proposal (RFP) or Request for Qualifications (RFQ) documents for HUD approval prior to advertisement. Collection of the information in this manner helps to streamline the procurement process and reduce the administrative burden on participating Grantees and HUD staff.

Agency Form Number: HUD-52860-A (HOPE VI Application Data Form); There are no agency form numbers for HOPE VI Demolition Applications, HOPE VI Revitalization quarterly reporting and the Certification of Mixed-Finance Procurement form.

Members of Affected Public: Public Housing Authorities.

Estimation of the Total Number of Hours Needed to Prepare the Information Collection Including Number of Respondents, Frequency of Response, and Hours of Response:

For HOPE VI Revitalization Application: 80 respondents, once annually, 190 hours average per response results in a total annual reporting burden of 15,200 hours.

For HOPE VI Revitalization Application Data Form (part of the HOPE VI Revitalization Application above): 80 respondents, once annually, 80 hours average per response results in a total annual reporting burden of 6,400 hours (this annual reporting burden of 6,400 hours is part of the 15,200 hours of annual reporting burden for the HOPE VI Revitalization Application, provided above).

For HOPE VI Budget (part of the HOPE VI Revitalization Application above): 80 respondents, once annually, 6 hours average per response results in a total annual reporting burden of 480 hours (this annual reporting burden of 480 hours is part of the 15,200 hours of annual reporting burden for the HOPE VI Revitalization Application, provided above).

For HOPE VI Demolition Application: 34 respondents, twice annually, 48 hours average per response results in a total annual reporting burden of 3264 hours.

For HOPE VI Revitalization Quarterly Reporting: 148 respondents, 4 times annually, 20 hours average per response results in a total annual reporting burden of 11,840 hours.

For the Certification of Mixed-Finance Procurement form: 40 respondents, once annually, 20 minutes average per response results in a total annual reporting burden of 13 hours.

Grand total: These information collections performed in connection to the HOPE VI program result in an annual total reporting burden of 30,317 hours.

Status of the Proposed Information Collection: Reinstatement, with change.

Authority: Section 3506 of the Paperwork Reduction Act of 1995, 44 U.S.C. Chapter 35, as amended.

Dated: March 30, 2001.
Gloria Cousar,
Acting General Deputy Assistant Secretary for Public and Indian Housing.

BILLING CODE 4210-33-M

[FR Doc. 01-8528 Filed 4-5-01; 8:45 am]

BILLING CODE 4210-33-C